DEPARTMENT OF TRANSPORTATION

Federal Aviation Administration

14 CFR Part 71

[Docket No. FAA-2004-17608; Airspace Docket No. 04-AAL-07]

Proposed Establishment of Class E Airspace; Teller, AK

AGENCY: Federal Aviation Administration (FAA), DOT.

ACTION: Notice of proposed rulemaking; correction.

SUMMARY: This action corrects an error under the airspace description contained in a NPRM that was published in the Federal Register on Wednesday, June 9, 2004 (69 FR 32291). The NPRM proposed the establishment of Class E airspace upward from 700 feet (ft.) and 1,200 ft. above the surface at Teller, AK.

FOR FURTHER INFORMATION CONTACT: Jesse Patterson, AAL-538G, Federal Aviation Administration, 222 West 7th Avenue, Box 14, Anchorage, AK 99513-7587; telephone number (907) 271-5898; fax: (907) 271-2850; e-mail: Jesse.CTR.Patterson@faa.gov. Internet address: http://www.alaska.faa.gov/at.

SUPPLEMENTARY INFORMATION:

History

Federal Register Document 04-12970 published on Wednesday, June 9, 2004 (69 FR 32291), proposed to establish Class E airspace at Teller, AK. The coordinate describing the center point of airspace upward from 1,200 ft. above the surface was incorrect. This action corrects that error.

Accordingly, pursuant to the authority delegated to me, the coordinate describing the center point of airspace upward from 1,200 ft. above the surface as published in the Federal Register Wednesday, June 9, 2004 (69 FR 32291), (FR Doc 04-12970), is corrected as follows:

§ 71.1 [Amended]

1 On page 32293, Column 1, under the airspace description, in the sixth line, “166°53′16″ N” should read, “165°53′16″ N”.

Issued in Anchorage, AK, on August 23, 2004.
Judith G. Heckl,
Manager, Air Traffic Division, Alaskan Region.

[FR Doc. 04-20061 Filed 9-1-04; 8:45 am]

BILLING CODE 4910-13-M